DEPARTMENT OF DEFENSE

Defense Acquisition Regulations System

48 CFR Parts 202, 209, 214, 227, 237, and 252

Defense Federal Acquisition Regulation Supplement; Technical Amendments

AGENCY: Defense Acquisition Regulations System, Department of Defense (DoD).

ACTION: Final rule.

SUMMARY: DoD is making technical amendments to the Defense Federal Acquisition Regulation Supplement (DFARS) to update the list of DoD contracting activities and other references within the DFARS text.

DATES: Effective Date: August 25, 2009.

FOR FURTHER INFORMATION CONTACT: Ms. Michele Peterson, Defense Acquisition Regulations System, OUSD (AT&L) DPAP (DARS), IMD 3D139, 3062 Defense Pentagon, Washington, DC 20301-3062. Telephone 703-602-0311; facsimile 703-602-7887.

SUPPLEMENTARY INFORMATION: This final rule amends DFARS text as follows:

• 202.101. Updates the listings of DoD contracting activities and military departments and defense agencies.

• 209.403, 214.407-3, and 227.7004. Updates organization names.

• 237.7204. Updates the fill-in portion of a document format to permit insertion of the calendar year.

• 252.244-7000. Updates a reference to a contract clause to reflect a revision to the clause that was published at 74 FR 37626 on July 29, 2009.

List of Subjects in 48 CFR Parts 202, 209, 214, 227, 237, and 252

Government procurement.

Michele P. Peterson,
Editor, Defense Acquisition Regulations System.

Therefore, 48 CFR Parts 202, 209, 214, 227, 237, and 252 are amended as follows:

1. The authority citation for 48 CFR Parts 202, 209, 214, 227, 237, and 252 continues to read as follows:

Authority: 41 U.S.C. 421 and 48 CFR Chapter 1.

PART 202—DEFINITIONS OF WORDS AND TERMS

2. Section 202.101 is amended by revising the definitions of Contracting activity and Departments and agencies to read as follows:

202.101 Definitions.

* * * * *

Contracting activity for DoD also means elements designated by the director of a defense agency which has been delegated contracting authority through its agency charter. DoD contracting activities are—

Department of Defense

Counterintelligence Field Activity

Department of Defense Education Activity

TRICARE Management Activity

Washington Headquarters Services, Acquisition and Procurement Office

Army

Headquarters, U.S. Army Contracting Command

Joint Contracting Command—Iraq/Afghanistan

National Guard Bureau

Program Executive Office for Simulation, Training, and Instrumentation

U.S. Army Aviation and Missile Life Cycle Management Command

U.S. Army Communications-Electronics Life Cycle Management Command

U.S. Army Corps of Engineers

U.S. Army Expeditionary Contracting Command

U.S. Army Intelligence and Security Command

U.S. Army Joint Munitions and Lethality Life Cycle Management Command

U.S. Army Medical Command

U.S. Army Medical Research and Materiel Command

U.S. Army Mission and Installation Contracting Command

U.S. Army Research, Development, and Engineering Command

U.S. Army Space and Missile Defense Command

U.S. Army Sustainment Command

U.S. Army Tank-Automotive and Armaments Life Cycle Management Command

Navy

Office of the Deputy Assistant Secretary of the Navy (Acquisition & Logistics Management)

Naval Air Systems Command

Space and Naval Warfare Systems Command

Naval Facilities Engineering Command

Naval Inventory Control Point

Naval Sea Systems Command

Naval Supply Systems Command

Office of Naval Research

Military Sealift Command

Strategic Systems Programs

Marine Corps Systems Command

Installations and Logistics, Headquarters, U.S. Marine Corps

Air Force

Office of the Assistant Secretary of the Air Force (Acquisition)

Office of the Deputy Assistant Secretary (Contracting)

Air Force Materiel Command

Air Force Reserve Command

Air Combat Command

Air Mobility Command

Air Education and Training Command

Pacific Air Forces

United States Air Forces in Europe

Air Force Space Command

Air Force District of Washington

Air Force Operational Test & Evaluation Center

Air Force Special Operations Command

United States Air Force Academy

Aeronautical Systems Center

Air Armament Center

Electronic Systems Center

Space and Missile Systems Center

Defense Advanced Research Projects Agency

Office of the Deputy Director, Management

Defense Business Transformation Agency

Contracting Office

Defense Commissary Agency

Directorate of Contracting

Defense Contract Management Agency

Office of the Director, Defense Contract Management Agency

Defense Finance And Accounting Service

External Services, Defense Finance and Accounting Service

Defense Information Systems Agency

Defense Information Technology Contracting Organization

Defense Intelligence Agency

Office of Procurement

Defense Logistics Agency

Acquisition Management Directorate

Defense Supply Centers

Defense Energy Support Center

Defense Security Cooperation Agency

Contracting Division

Defense Security Service

Acquisition and Contracting Branch

Defense Threat Reduction Agency

Acquisition Management Office

Missile Defense Agency

Headquarters, Missile Defense Agency

National Geospatial-Intelligence Agency

Procurement and Contracting Office

National Security Agency

Headquarters, National Security Agency

United States Special Operations Command

Headquarters, United States Special Operations Command

United States Transportation Command

Directorate of Acquisition

* * * * *

Departments and agencies, as used in DFARS, means the military departments and the defense agencies. The military departments are the Departments of the Army, Navy, and Air Force (the Marine Corps is a part of the Department of the Navy). The defense agencies are the Defense Advanced Research Projects Agency, the Defense Business Transformation Agency, the Defense Commissary Agency, the Defense Contract Management Agency, the Defense Finance and Accounting Service, the Defense Information Systems Agency, the Defense Intelligence Agency, the Defense Logistics Agency, the Defense Security Cooperation Agency, the Defense Security Service, the Defense Threat Reduction Agency, the Missile Defense Agency, the National Geospatial-Intelligence Agency, and the National Security Agency.

* * * * *

PART 209—CONTRACTOR QUALIFICATIONS

209.403 [Amended]

3. Section 209.403 is amended in the definition of Debarring and suspending official, in paragraph (1), by removing the entry “National Imagery and Mapping Agency—The General Counsel” and adding in its place “National Geospatial-Intelligence Agency—The General Counsel”.

PART 214—SEALED BIDDING

4. Section 214.407-3 is amended by revising paragraph (e)(v) to read as follows:

214.407-3 Other mistakes disclosed before award.

(e) * * *

(v) National Geospatial-Intelligence Agency: General Counsel, NGA.

* * * * *

PART 227—PATENTS, DATA, AND COPYRIGHTS

227.7004 [Amended]

5. Section 227.7004 is amended in paragraph (c)(7) by removing “Imagery and Mapping” and adding in its place “Geospatial-Intelligence”.

PART 237—SERVICE CONTRACTING

237.7204 [Amended]

6. Section 237.7204 is amended under the heading “EDUCATIONAL SERVICE AGREEMENT Agreement No. ____”, in paragraph 1., by removing “19__” and adding in its place “__”.

PART 252—SOLICITATION PROVISIONS AND CONTRACT CLAUSES

7. Section 252.244-7000 is amended by revising the clause date and paragraph (a) to read as follows:

252.244-7000 Subcontracts for Commercial Items and Commercial Components (DoD Contracts).

* * * * *

Subcontracts for Commercial Items and Commercial Components (DoD Contracts) (AUG 2009)

* * * * *

(a) 252.225-7009 Restriction on Acquisition of Certain Articles Containing Specialty Metals (10 U.S.C. 2533b).

* * * * *

[FR Doc. E9-20416 Filed 8-24-09; 8:45 am]

BILLING CODE 5001-08-P